FEDERAL COMMUNICATIONS COMMISSION

Notice of Public Information Collection(s) Being Reviewed by the Federal Communications Commission, Comments Requested

October 11, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before December 19, 2005. If you anticipate that you will be submitting comments, but find it difficult to do so within the period of time allowed by this notice, you should advise the contact listed below as soon as possible.

ADDRESSES: You may submit your Paperwork Reduction Act (PRA) comments by e-mail or U.S. postal mail. To submit you comments by e-mail send them to: PRA@fcc.gov. To submit your comments by U.S. mail, mark it to the attention of Judith B. Herman, Federal Communications Commission, 445 12th Street, SW., Room 1-C804, Washington, DC 20554.

FOR FURTHER INFORMATION CONTACT: For additional information about the information collection(s) send an e-mail to PRA@fcc.gov or contact Judith B. Herman at 202-418-0214.

SUPPLEMENTARY INFORMATION: OMB Control No.: 3060-0512.

Title: The ARMIS Annual Summary Report.

Report No.: FCC Report 43-01.

Type of Review: Revision of a currently approved collection.

Respondents: Business or other for-profit, not-for-profit institutions.

Number of Respondents: 126.

Estimated Time Per Response: 88 hours.

Frequency of Response: Annual reporting requirement

Total Annual Burden: 11,088 hours.

Total Annual Cost: N/A.

Privacy Act Impact Assessment: N/A.

Needs and Uses: This collection is being revised to remove one row of data from the report.

After the 60-day comment period has ended, the Commission will submit this revision to OMB for review and approval.

The Automated Reported Management Information System (ARMIS) was implemented to facilitate the timely and efficient analysis of revenue requirements, rates of return and price caps; to provide an improved basis for audits and other oversight functions; and to enhance the Commission's ability to quantify the effects of alternative policy. The ARMIS Report 43-01 contains financial and operating data and is used to monitor the incumbent local exchange carriers (“ILECs”) and to perform routine analyses of costs and revenues.

OMB Control No.: 3060-0513.

Title: The ARMIS Joint Cost Report.

Report No.: FCC Report 43-03.

Type of Review: Revision of a currently approved collection.

Respondents: Business or other for-profit.

Number of Respondents: 82.

Estimated Time Per Response: 50 hours.

Frequency of Response: Annual reporting requirement.

Total Annual Burden: 4,100 hours.

Total Annual Cost: N/A.

Privacy Act Impact Assessment: N/A.

Needs and Uses: This collection will be submitted as a revision to OMB after the 60-day comment period has ended. This to implement a Commission Order, FCC 04-149, paragraph 9 through 14, which was released on 6/24/2004. In that Order, the Commission approved two rows that will report wholesale and retail percentages for Account 6623 which affects FCC Report 43-03.

The Automated Reported Management Information System (ARMIS) was implemented to facilitate the timely and efficient analysis of revenue requirements, rates of return and price caps; to provide an improved basis for audits and other oversight functions; and to enhance the Commission's ability to quantify the effects of alternative policy. The ARMIS Report 43-03 details the incumbent local exchange carriers (“ILECs”) regulated and nonregulated cost and revenue allocations by study area pursuant to Part 64 of the Commission's rules.

OMB Control No.: 3060-0763.

Title: The ARMIS Customer Satisfaction Report.

Report No.: FCC Report 43-06.

Type of Review: Extension of a currently approved collection.

Respondents: Business or other for-profit.

Number of Respondents: 7.

Estimated Time Per Response: 720 hours.

Frequency of Response: Annual reporting requirement.

Total Annual Burden: 5,040 hours.

Total Annual Cost: N/A.

Privacy Act Impact Assessment: N/A.

Needs and Uses: This collection will be submitted as an extension (no change) in order to obtain the full three-year clearance from OMB. After the 60-day comment period has ended, this collection will be submitted to OMB for review and approval.

ARMIS was implemented to facilitate the timely and efficient analysis of revenue requirements, rates of return and price caps; to provide an improved basis for audits and other oversight functions; and to enhance the Commission's ability to quantify the effects of alternative policy.

The ARMIS Report 43-06 reflects the results of customer satisfaction surveys conducted by individual carriers from residential and business customers. The ARMIS Report 43-06 captures trends in service quality as a result of consumer satisfaction surveys.

OMB Control No.: 3060-0848.

Title: Deployment of Wireline Services Offering Advanced Telecommunications Compatibility, CC Docket No. 98-147.

Form No.: N/A.

Type of Review: Extension of a currently approved collection.

Respondents: Business or other for-profit.

Number of Respondents: 1,750.

Estimated Time Per Response: .50-44 hours.

Frequency of Response: On occasion and annual reporting requirements, recordkeeping requirement and third party disclosure requirement.

Total Annual Burden: 165,600 hours.

Total Annual Cost: N/A.

Privacy Act Impact Assessment: N/A.

Needs and Uses: These collections of information implement Section 251 of the Communications Act of 1934, as amended. In CC Docket Nos. 98-147 and 96-98, the Commission sought to further Congress's goal of promoting innovation and investment by all participating in the telecommunications marketplace, in order to stimulate competition for all services, including advanced services. In furtherance of this goal, the Commission imposes certain collections of information on incumbent local exchange carriers (LECs) in order to ensure compliance with the incumbent LEC's collocation obligations and to assist incumbent LECs in protecting network integrity.

Federal Communications Commission.
Marlene H. Dortch,
Secretary.

[FR Doc. 05-20839 Filed 10-18-05; 8:45 am]

BILLING CODE 6712-01-P